DEPARTMENT OF HEALTH AND HUMAN SERVICES

Centers for Medicare & Medicaid Services

42 CFR Parts 410, 414, 415, and 495

[CMS-1524-CN and CMS-1436-CN]

RIN 0938-AQ25 and 0938-AQ00

Medicare Program; Payment Policies Under the Physician Fee Schedule, Five-Year Review of Work Relative Value Units, Clinical Laboratory Fee Schedule: Signature on Requisition, and Other Revisions to Part B for CY 2012; Corrections

AGENCY: Centers for Medicare & Medicaid Services (CMS), HHS.

ACTION: Correction of final rule with comment period.

SUMMARY: This document corrects technical errors and typographical errors in the final rule with comment period entitled “Medicare Program; Payment Policies under the Physician Fee Schedule, Five-Year Review of Work Relative Value Units, Clinical Laboratory Fee Schedule: Signature on Requisition, and Other Revisions to Part B for CY 2012” which appeared in the November 28, 2011 Federal Register.

DATES: This correcting document is effective January 1, 2012.

FOR FURTHER INFORMATION CONTACT:

Ryan Howe, (410) 786-3355, or Chava Sheffield, (410) 786-2298, for issues related to the physician fee schedule practice expense methodology and direct expense inputs.

Sara Vitolo, (410) 786-5714, for issues related to work RVUs.

Christine Estella, (410) 786-0485, for issues related to the Physician Quality Reporting System, incentives for Electronic Prescribing (eRx) and Physician Compare.

Jamie Hermansen, or (410) 786-2064, or Stephanie Frilling, (410) 786-4507, for issues related to Annual Wellness Visit.

Rebecca Cole, (410) 786-4497, for issues related to physician payment not previously identified.

SUPPLEMENTARY INFORMATION:

I. Background

In FR Doc. 2011-28597 of November 28, 2011 (76 FR 73026), the final rule with comment period entitled “Medicare Program; Payment Policies under the Physician Fee Schedule, Five-Year Review of Work Relative Value Units, Clinical Laboratory Fee Schedule: Signature on Requisition, and Other Revisions to Part B for CY 2012” (hereinafter referred to as the CY 2012 PFS final rule with comment period) there were a number of technical errors that are identified and corrected in the Correction of Errors section. Accordingly, the corrections are effective January 1, 2012.

We note that this correction notice corrects the CY 2012 PFS final rule with comment period which reflects laws in effect as of November 1, 2011. Any statutory changes to PFS payment after November 1, 2011 were not reflected in the CY 2012 PFS final rule with comment period and are therefore not reflected in this correction notice. Payment files reflecting current law as of January 1, 2012 were made available through usual CMS notices and data files.

II. Summary of Errors and Corrections to the Addenda Posted on the CMS Web Site

A. Errors in the Preamble

1. Errors in Work Relative Value Units (RVUs) and Time Information

On pages 73028 and 73208, a discussion of CPT codes 96110 (Developmental screening, with interpretation and report, per standardized instrument form) and G0451 (Development testing, with interpretation and report, per standardized instrument form) was omitted from the final rule due to an inadvertent error. We note that we had cited a discussion regarding these two codes several times throughout the preamble. We are correcting this error by including our intended discussion through this correcting document.

On page 73141, we are correcting our response to comments to accurately reflect our policy regarding CPT codes 53445 (Insertion of inflatable urethral/bladder neck sphincter, including placement of pump, reservoir, and cuff) and 54410 (Removal and replacement of all component(s) of a multi-component, inflatable penile prosthesis at the same operative session). Due to an inadvertent error, the discussion of these codes did not reflect our discussion of revisions to the times for these codes for CY 2012. We include our discussion of time policies for these codes on an interim final basis for CY 2012.

On page 73166, we are correcting an inadvertent error in Table 15: CY 2012 Work RVUs for Services Reviewed in the CY 2011 PFS Final Rule with Comment Period, the Fourth-Five Year Review, and the CY 2012 PFS Proposed Rule. This table incorrectly identified that no time change had occurred for CPT code 53445.

On pages 73172 and 73178, we are correcting Table 16: CY 2011 and AMA RUC-Recommended Physician Time and Work Values for CY 2012 to accurately reflect time values for CPT codes 23415 (Coracoacromial ligament release, with or without acromioplasty), as well as revisions to the times for 53445 and 54410 already noted. The time values for CPT code 23415 that were listed in the CY 2012 PFS final rule time file were correct, but were inadvertently left out of Table 16. The time values for CPT codes 53345 and 54410 that were listed in the CY 2012 PFS final rule time file were not correct; the time file has been corrected to reflect correct times for CPT codes 53445 and 54410, previously discussed. We note that the time file that we used to calculate RVUs for the CY 2012 PFS final rule with comment period did not reflect the correct finalized published times in Table 16 on pages 73170 through 73181 for a limited number of codes. Specifically, we also have corrected the time values in the time file for CPT codes 28725 (Arthrodesis; subtalar), 28730 (Arthrodesis, midtarsal or tarsometatarsal, multiple or transverse), 62223 (Creation of shunt; ventriculo-peritoneal, -pleural, other terminus), 65285 (Repair of laceration; cornea and/or sclera, perforating, with reposition or resection of uveal tissue), 73080 (Radiologic examination, elbow; complete, minimum of 3 views), 73610 (Radiologic examination, ankle; complete, minimum of 3 views), and 73630 (Radiologic examination, foot; complete, minimum of 3 views) to reflect the correct time values in Table 16.

On page 73173, in Table 16, we are also correcting a typographical error for CPT code 28725 (Arthrodesis; subtalar).

On page 73190, we are correcting the status indicator of molecular pathology CPT codes that are new for CY 2012. We had intended to set the status indicator to allow reporting of these codes along with the laboratory CPT codes currently used to report these services. Due to an inadvertent error identifying the appropriate status indicator for tracking purposes, the published status indicator was incorrect.

On page 73265, in our discussion of the compression system services, we are updating our references to sections of the CY 2012 PFS final rule with comment period to correspond to the corrections identified elsewhere in this correcting document.

2. Errors in the Annual Wellness Visit

On pages 73306 through 73309, in our discussion of the Annual Wellness Visit, we made several technical and typographical errors in summarizing and responding to comments regarding the health risk assessment (HRA).

On page 73310, in our discussion regarding personalized prevention plans as part of the annual wellness visit, we inadvertently made technical and typographical errors.

On page 73311, in our discussion regarding a response to commenters on the physician's wellness team, we inadvertently made a technical error in our description of who comprises the wellness team.

3. Errors in the PE RVUs

On page 73313, we are correcting a typographical error in Table 39: Final RVUs for AWV Services for HCPCS code G0438 (Annual wellness visit, includes a personalized prevention plan of service (PPPS), first visit).

We are correcting a series of Practice Expense (PE) RVUs that appeared in Addenda B and C for CPT codes 90867 (Therapeutic repetitive transcranial magnetic stimulation (TMS) treatment; initial, including cortical mapping, motor threshold determination, delivery and management), 90868 (Therapeutic repetitive transcranial magnetic stimulation (TMS) treatment; subsequent delivery and management, per session), and 90869 (Therapeutic repetitive transcranial magnetic stimulation (TMS) treatment; subsequent motor threshold re-determination with delivery management) that were incorrect as a result of a technical error. The price input for the new direct practice expense equipment item “NeuroStar TMS Therapy System” (EQ342) was incorrectly calculated. The corrected price is included in the corrected final CY 2012 direct PE database. The final PE RVUs displayed in the corrected versions of Addendum B and C reflect values resulting from the correction of this error.

We also note that because work RVUs factor into the calculation for PE RVUs, and time values factor into direct PE input values and specialty-level allocation of indirect PE, PE RVUs for CPT codes with corrected work RVUs or time values may have also changed as a result of the corrected work RVUs and time values. These changes are reflected in Addenda B and C and the direct PE database.

Further, we note that changes in PE RVUs for other codes not previously identified may occur due to various factors related to the relativity of the system including budget neutrality, changes in aggregate physician times, and adjustments to maintain PE RVU shares. These changes also are reflected in Addenda B and C. In order to account for these corrected values, we are correcting errors in Table 85: Impact of Final Rule With Comment Period and Estimated Physician Update on CY 2012 Payment for Selected Procedures.

4. Errors in the Physician Quality Reporting System

On page 73333, in our discussion of core measures directly below Table 42, we inadvertently made a typographical error in referencing a Table number.

On page 73334, in our discussion of zero percent performance rates, we made a typographical error. Although the final requirement to not count measures with a zero percent performance rate is indicated throughout the rule, including Tables 40, 41, and 42, in a response on page 73334, we erroneously stated “only” instead of “not.”

On page 73336, in our discussion of measures groups, we made a typographical error in referencing a Table number.

On page 73337, in our summary of the CY 2012 proposed rule regarding the reporting criteria for the group practice reporting option (GPRO), we inadvertently referenced the wrong Federal Register page number and also made a typographical error in referencing the number of NQF-endorsed quality measures we proposed.

On page 73339, in our discussion of GPROs we inadvertently made a typographical error in referencing the dates. The correct year is 2012, which is the year in which the reporting period for the 2012 Physician Quality Reporting System lies.

On page 73343, we made typographical errors in referencing Table numbers of the CY 2012 proposed rule. In addition, in our discussion of contact information, we incorrectly referenced the 2011 Physician Quality Reporting System instead of the 2012 Physician Quality Reporting System.

On page 73345, in our discussion of core measures, we inadvertently made typographical errors in referencing Table numbers.

On page 73348, in one of our responses to comments, we inadvertently made typographical errors in referencing two Table numbers.

On page 73362, in Table 47, the measure entitled “Ischemic Vascular Disease (IVD): Complete Lipid Profile and LDL Control <100” was inadvertently listed twice.

On page 73365, in Table 48, we are correcting measure numbers for several measures that were retired in 2010. Specifically, the Measure entitled “Use of Appropriate Medications for Asthma” and the Measure entitled “Smoking and Smoking and Tobacco Use Cessation, Medical Assistance: a. Advising Smokers to Quit, b. Discussing Smoking and Tobacco Use Cessation Medications, c. Discussing Smoking and Tobacco Use Cessation Strategies” were inadvertently listed with Physician Quality Reporting System numbers and should be listed as “TBD.”

On page 73368, third column, first full paragraph, we inadvertently excluded the COPD measures group as a measures group that also contains measures available for reporting as individual measures.

On page 73373, in reference to Table 56, we inadvertently excluded a footnote to indicate that the CAD measures group contained measures that are also available for reporting as individual measures.

On page 73383, in our response to commenters who urged CMS to reduce the number of GPRO measures a GPRO must report under the Physician Quality Reporting System, we inadvertently made an error in stating we finalized 30 measures available for reporting under the GPRO. As indicated in Table 71 and in the third column, first full paragraph on page 73383, we finalized 29 measures available for reporting under the GPRO.

On page 73388, second column, first full paragraph, we incorrectly referenced the first quarter of 2012 instead of the first quarter of 2013.

5. Errors in the Electronic Prescribing (eRx) Incentive Program

On page 73415, we inadvertently made a typographical error by referencing G code G8642 instead of G9642 (G8642 was the G-Code created in 2011 for the significant hardship exemption for professionals in rural areas with limited high speed Internet access).

6. Errors in the Impact Analysis

On page 73457, In Table 85: Impact of Final Rule with Comment Period and Estimated Physician Update on CY 2012 Payment for Selected Procedures, we discuss the corrected work RVUs in section II.A.3. of this document, entitled “Errors in the PE RVUs”.

7. Errors in the Addenda Listing

On page 73469, in our discussion of the Addenda, we inadvertently listed Addendum C as reserved.

B. Errors in the Addenda Posted on the CMS Web Site

On page 73469 of the CY 2012 PFS final rule with comment period, we noted that the Addenda A through H for the CY 2012 PFS final rule with comment period would only be available via the Internet. In this document, we note that we will be correcting the following Addenda:

• Addendum B—Relative Value Units and Related Information Used in Determining Medicare Payments for CY 2012.

• Addendum C.—Codes with Proposed RVUs Subject to Comment for CY 2012.

We are removing HCPCS code G0450 from Addendum B. This code was incorrectly included in the final rule Addenda due to a technical error. In addition, we are correcting the status indicator in Addendum B for CPT code 96110.

Additionally, due to a typographical error, we are correcting the physician work and malpractice RVUs that appeared in Addenda B and C for CPT code 90845 (Psychoanalysis). The correct physician work and malpractice RVUs were listed in the preamble text.

Due to the changes previously noted in this section and in section II.A.3. of this document, we are correcting errors in these Addenda by replacing the Addenda in their entirety. In addition, we are correcting supporting tables that are available online, such as the time file and the direct PE input database. Errors to all updated tables are a result of the technical and typographical errors identified and summarized in this correcting document. As stated in the CY 2012 PFS final rule with comment period, Addenda B and C are available online at http://www.cms.gov/PhysicianFeeSched. To access supporting information on this correction notice, click on the link on the left side of the screen titled, “PFS Federal Regulations Notices” for a chronological list of PFS Federal Register and other related documents and select CMS-1524-CN.

III. Waiver of Proposed Rulemaking and 30-Day Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

This document merely corrects typographical and technical errors in the preamble and addenda of the CY 2012 Physician Fee Schedule final rule with comment period. The provisions of that final rule with comment period have been subjected to notice and comment procedures. The corrections contained in this document are consistent with, and do not make substantive changes to, the policies and payment methodologies that were adopted in the CY 2012 PFS final rule with comment period. As a result, the corrections made through this correcting document are intended to ensure that the CY 2012 PFS final rule with comment period accurately reflects the policies adopted in that rule.

Therefore, we find for good cause that it is unnecessary and would be contrary to the public interest to undertake further notice and comment procedures to incorporate the corrections in this document into the CY 2012 PFS final rule with comment period. For the same reasons, we find that there is good cause to waive the 30-day delay in the effective date for these corrections. Further, we believe that it is in the public interest to ensure that the CY 2012 PFS final rule with comment period accurately reflects our policies as of the date they take effect. Therefore, we find that delaying the effective date of these corrections beyond the effective date of the final rule with comment period would be contrary to the public interest. In so doing, we find good cause to waive the 30-day delay in effective date.

IV. Correction of Errors

In FR Doc. 2011-28597 of November 28, 2011 (76 FR 73026), the final rule with comment period, make the following corrections:

1. Page 73028, third column,

a. After line 31 (item “(23)”), the text is corrected by adding a new item to read as follows “(24) Central Nervous System Assessments/Tests (CPT codes 96110, G0451)”.

b. Line 32 (Item “(24)”), the reference “(24)” is corrected to read “(25)”.

2. Page 73141, second column,

a. Second full paragraph that begins with the phrase “Response: We agree with the AMA RUC” and ends with the phrase “CPT code 53445 for CY 2012” is corrected to read as follows:

“Response: We agree with the AMA RUC that the 25th percentile work RVU of 13.00 is appropriate for this service. We are assigning an interim final work RVU of 13.00 to CPT code 53445 for CY 2012. CPT code 53445 can be found in Addenda B and C to this CY 2012 PFS final rule.

Regarding the physician time associated with CPT code 53445, in the CY 2012 PFS proposed rule (76 FR 42799 through 42800) we stated that since Medicare claims data indicate that this service is predominantly performed in the outpatient setting, that we did not believe that this service should reflect work that is typically associated with an inpatient service. In the CY 2012 PFS proposed rule, we proposed to accept the AMA RUC-recommended physician times, understanding that the AMA RUC was collecting additional information on the physician time associated with this CPT code (and CPT code 54410) through a specialty society survey. Following publication of the CY 2012 PFS proposed rule, we realized that we had not reviewed the additional specialty society survey information on physician time. After review, we do not believe it is appropriate for this service which is now predominantly furnished in the outpatient setting to continue to reflect work that is typically associated with an inpatient service. In order to ensure consistent treatment of physician time, we believe it is appropriate to apply our methodology described previously to address 23-hour stay site-of-service anomalies. Therefore, on an interim final basis for CY 2012, we are removing the subsequent observation care visit, reducing the discharge management day service to one-half, and adjusting the times accordingly. We are assigning CPT code 53445 the following times on an interim final basis for CY 2012: 50 minutes pre-service evaluation, 15 minutes pre-service positioning, 20 minutes dress, scrub, and wait, 90 minutes intra-service time, 35 minutes post-service time, half of a hospital discharge management day service, 1 Level 2 established patient office or other outpatient visit, and 3 Level 3 established patient office or other outpatient visits. CMS time refinements can be found in Table 16.

For CY 2009, CPT code 54410 (Removal and replacement of all component(s) of a multi-component, inflatable penile prosthesis at the same operative session) was identified as potentially misvalued through the site-of-service anomaly screen. As detailed in the CY 2012 PFS proposed rule (76 FR 42799), for CY 2012 we proposed a work RVU of 15.18, which corresponded to the current (CY 2011) work RVU and the AMA RUC-recommended work RVU for this service. Regarding the physician time assigned to CPT code 54410, in the PFS proposed rule we proposed to remove the subsequent hospital care visit and keep the AMA RUC-recommended physician times for the other components of this service, with the understanding that the AMA RUC was collecting additional information on the physician time associated with this CPT code (and CPT code 53445). We received no public comments on our proposal for CPT code 54410.

We continue to believe that a work RVU of 15.18 appropriately reflects the physician work associated with this service. Therefore, we are assigning an interim final work RVU of 15.18 to CPT code 54410 for CY 2012. CPT code 54410 can be found in Addenda B and C to this CY 2012 PFS final rule. Following publication of the CY 2012 PFS proposed rule, we realized that we had not reviewed the additional specialty society survey information on physician time for CPT code 54410 that we had received. After reviewing the additional information, we do not believe it is appropriate for this service which is now predominantly furnished in the outpatient setting to continue to reflect work that is typically associated with an inpatient service. In order to ensure consistent and appropriate treatment of physician time, we believe it is appropriate to apply our methodology described previously to address 23-hour stay site-of-service anomalies. Therefore, on an interim final basis for CY 2012, we are removing the subsequent observation care visit, reducing the discharge management day service to one-half, and adjusting the times accordingly. We are assigning CPT code 54410 the following times on an interim final basis for CY 2012: 40 minutes pre-service evaluation, 10 minutes pre-service positioning, 15 minutes dress, scrub, and wait, 120 minutes intra-service time, 40 minutes post-service time, half of a hospital discharge management day service, 1 Level 2 established patient office or other outpatient visit, and 3 Level 3 established patient office or other outpatient visits. CMS time refinements can be found in Table 16.”

b. Third full paragraph, line 5 through 9, the sentence, “Also, for CY 2012, we received no public comments on the CY 2012 proposed work RVUs for CPT codes 52341, 52342, 52343, 52344, 52345, 52346, 52400, 52500, 54410, and 54530.” is corrected to read “For CY 2012, we received no public comments on the CY 2012 proposed work RVUs for CPT codes 52341, 52342, 52343, 52344, 52345, 52346, 52400, 52500, and 54530”.

3. On page 73166, Table 15: CY 2012 Work RVUs for Services Reviewed in the CY 2011 PFS Final Rule with Comment Period, the Fourth-Five Year Review, and the CY 2012 PFS Proposed Rule, column 7, line 16 (CPT code 53445), the “” (blank entry) is corrected to read “Yes”.

4. Page 73172, Table 16: CY 2011 and AMA RUC-Recommended Physician Time and Work Values for CY 2012.

a. Line 8 (CPT code 23415),

(1) Column 15, the figure “0” is corrected to read “0.5”.

(2) Column 20, the figure “0” is corrected to read “2.0”.

(3) Column 21, the figure “0” is corrected to read “2.0”.

b. Line 9 (CPT code 23415),

(1) Column 15, the figure “0” is corrected to read “0.5”.

(2) Column 20, the figure “0” is corrected to read “2.0”.

(3) Column 21, the figure “0” is corrected to read “2.0”.

5. Page 73173, line 10—CPT code 28725, column 21, the figure “0” is corrected to read “3.0”.

6. Page 73178,

a. Line 17 (CPT code 53445),

(1) Column 9, the figure “25” is corrected to read “35”.

(2) Column 15, the figure “1” is corrected to read “0.5”.

(3) Column 17, the figure “1” is corrected to read “0”.

b. Line 20 (CPT code 54410),

(1) Column 9, the figure “30” is corrected to read “40”.

(2) Column 15, the figure “1”, is corrected to read “0.5”.

7. Page 73190, upper fourth of the page, second column, first partial paragraph, and third column first partial paragraph, the sentences beginning with “These molecular pathology codes” and ending with “payment for these services” are corrected to read as follows:

“These molecular pathology codes appear in Addendum B to this final rule with the procedure status indicator of B (Bundled code. Payments for covered services are always bundled into payment for other services not specified. If RVUs are shown, they are not used for Medicare payment. If these services are covered, payment for them is subsumed by the payment for the services to which they are incident (for example, a telephone call from a hospital nurse regarding care of a patient)). While these services would traditionally be assigned a procedure status indicator of I (Not Valid for Medicare purposes. Medicare uses another code for the reporting of, and the payment for these services), assigning these CPT codes a procedure status indicator of B will allow CMS to gather claims information important to evaluating eventual pricing of these new molecular pathology CPT codes.”

8. Page 73208, third column,

a. Immediately after the end of the first partial paragraph ending with “CPT code 95939,” the paragraph is corrected by adding a new paragraph to read as follows:

“(24) Central Nervous System Assessments/Tests (CPT Codes 96110, G0451)

For CY 2012, the CPT Editorial Panel revised the long descriptor for CPT code 96110 from (Developmental testing; limited (e.g., Developmental Screening Test II, Early Language Milestone Screen), with interpretation and report) to (Developmental screening, with interpretation and report, per standardized instrument form). With this change, we believe that the service described by CPT code 96110 is a screening service and no longer falls within the scope of benefits of the Medicare program, as defined by the Social Security Act. Therefore, for CY 2012, we assigned CPT code 96110 a procedure status indicator of N (Non-covered service. These codes are non-covered services. Medicare payment may not be made for these codes. If RVUs are shown, they are not used for Medicare payment). In order to continue to make payment under the PFS for the testing services previously described under CPT code 96110, for CY 2012 we created HCPCS code G0451 (Developmental testing, with interpretation and report, per standardized instrument form). In order to calculate resource-based RVUs for HCPCS code G0451, we crosswalked the utilization, direct practice expense inputs, and malpractice risk factor from CPT code 96110 to HCPCS code G0451. We note that CPT code 96110 did not have physician work RVUs, therefore no physician work RVUs have been assigned to HCPCS code G0451. The CY 2012 interim final RVUs assigned to HCPCS code G0451 are included in Addenda B to this final rule with comment period.”

b. First full paragraph, line 1, the reference number “(24)” is corrected to read “(25)”.

9. Page 73265,

a. First column, second partial paragraph, line 1, the reference “III.B.1.b.” is corrected to read “III.C.1.a.”.

b. Second column,

(1) First partial paragraph, line 10, the reference “III.B.1.b.” is corrected to read “III.C.1.a.”.

(2) Second partial paragraph, line 6, the reference, “III.B.1.b.” is corrected to read “III.C.1.a.”.

10. On page 73306,

a. Second column, first partial paragraph, lines 9 through 16, the sentence “The remaining 22 comments provided feedback about the impact of the annual wellness visit as a whole requested modifications or additional elements to the annual wellness visit, and coverage for additional preventive serves and vaccines.” is corrected to read “The remaining 22 comments provided feedback about the impact of the annual wellness visit as a whole, requested modifications to, or additional elements added to the annual wellness visit, and coverage for additional preventive services and vaccines.”

b. Third column, first partial paragraph, line 2, the word “supports” is corrected to read “supported”.

11. On page 73308, first column,

a. First full paragraph, lines 6 through 20, the sentence “If positive tobacco use is identified during the annual wellness visit, additional questions can be asked by the health professional followed by the process of motivational interviewing (the health professional offers personalized information to the patient) and shared decision-making (the health professional work with the patient to discover what is important to the patient and the patient's motivation to change behavior) in the development of the personalized prevention plan during the annual wellness visit encounter.” is corrected to read “If positive tobacco use is identified during the annual wellness visit, additional questions can be asked by the health professional followed by the process of motivational interviewing and shared decision-making (the health professional offers personalized information to the patient and works with the patient to discover what is important to the patient and his or her motivation to change behavior) in the development of the personalized prevention plan during the annual wellness visit encounter.”

b. Second full paragraph, lines 8 through 15, the sentence “We note that Medicare covers counseling to prevent tobacco use as an “additional preventive service” under Medicare Part B (additional information available in Pub. 100-3, Medicare National Coverage Determinations Manual, Chapter 1, Section 210.41).” is corrected to read “We note that Medicare covers tobacco use cessation counseling as an “additional preventive service” under Medicare Part B (additional information available in Pub. 100-03, Medicare National Coverage Determinations Manual, Chapter 1, Section 210.4.1).”

c. Last partial paragraph, line 3 through the second column, line 6, the sentence “One commenter agreed with the provisions of the proposed rule that did not include cognitive assessment as part of the HRA, however, the commenter believed that general questions about memory should be included in the HRA.” is corrected to read “One commenter agreed with the provisions of the proposed rule, which did not include cognitive assessment as part of the HRA. However, the commenter believed that general questions about memory should be included in the HRA.”

12. On page 73309, third column, second full paragraph, line 1, the phrase “Comment: A few comments” is corrected to read “Comment: A few commenters”.

13. On page 73310, first column, second full paragraph, lines 5 and 6, the phrase “but update the HRA” is corrected to read “but the patient should update the HRA.”

14. On page 73311, third column, first partial paragraph, line 1, the phrase “working on his or her wellness team are needed on a particular day” is corrected to read “working on the physician's wellness team are needed on a particular day”.

15. On page 73313, Table 39: Final RVUs for AWV Services, line 2 (CPT code G0438), column 4, the figure “4.99” is corrected to read “4.89”.

16. On page 73333, second line immediately following Table 42, the reference to “Table M 9” is corrected to read “Table 48”.

17. On page 73334, third column, third full paragraph, line 9, the phrase “proposal to only count measures” is corrected to read “proposal to not count measures”.

18. On page 73336, third column, last paragraph, line 17, the reference “Table 42” is corrected to read “Table 44”.

19. On page 73337, lower third of the page, third column,

a. Line 2, the reference “(76 FR 32859)” is corrected to read “(76 FR 42859)”.

b. Line 8, the phrase “30 NQF-endorsed ” is corrected to read “44 NQF-endorsed”.

20. On page 73339, lower half of the page, second column, first full paragraph,

a. Lines 20 and 21, the date, “January 1, 2011” is corrected to read “January 1, 2012”.

b. Line 22, the date “October 31, 2011” is corrected to read “October 31, 2012”.

21. On page 73343, second column, first full paragraph,

a. Line 19, the reference to “Tables 52 through 55” is corrected to read “Tables 29 through 56”.

b. Lines 20 and 21, the phrase “2011 Physician Quality Reporting System” is corrected to read as “2012 Physician Quality Reporting System”.

22. On page 73345, top of the page (before the table), first column, last line, the reference “Tables 48 and 49” is corrected to read “Tables 47 and 48”.

23. On page 73348, first column, first response, line 9, the reference “Tables 48 and 49” is corrected to read “Tables 47 and 48”.

24. On page 73362, in Table 47, last line, the entry for the measure “Ischemic Vascular Disease (IVD): Complete Lipid Profile and LDL Control <100” is corrected by deleting the entry.

25. On page 73365, in Table 48, first column (Physician Quality Reporting System Number),

a. Row 11, the figures “114 & 115” are corrected to read “TBD”.

b. Row 25, the figure “240” is corrected to read “TBD”.

26. On page 73368, third column, second full paragraph, lines 11 and 12, the phrase “CAP, and Asthma” is corrected to read “CAP, COPD, and Asthma”.

27. On page 73373, at the end of Table 56: Measures Included in the 2012 CAD Measures Group, the table is corrected by adding a footnote to read as follows: “The measures contained within this measures group are also available for reporting as individual measures.”

28. On page 73383, first column, second full paragraph, line 2, the phrase “30 of the 40 measures” is corrected to read “29 of the 41 measures”.

29. On page 73388, second column, fourth full paragraph, line 7, the phrase “than the end of the first quarter of 2012.” is corrected to read “than the end of the first quarter of 2013.”

30. On page 73415, third column, second full paragraph, line 4, the parenthetical phrase “(report G-code G9642).” is corrected to read “(report G-Code G8642).”

31. Page 73457, Table 85: Impact of Final Rule with Comment Period and Estimated Physician Update on CY 2012 Payment for Selected Procedures,

a. Line 10 (CPT code 43239),

(1) Column 10, “351.95” is corrected to read “351.61”.

(2) Column 12, “255.10” is corrected to read “254.85”.

b. Line 11(CPT code 66821),

(1) Column 10, “326.42” is corrected to read “326.08”.

(2) Column 12, “236.60” is corrected to read “236.35”.

c. Line 13, (CPT code 67210),

(1) Column 10, “524.18” is corrected to read “523.84”.

(2) Column 12, “379.94” is corrected to read “379.69”.

32. Page 73469, lower third of the page, second full paragraph, line 20, the title “Addendum C—[Reserved]” is corrected to read “Addendum C.—Codes With Proposed RVUs Subject to Comment for CY 2012”.

(Catalog of Federal Domestic Assistance Program No. 93.773, Medicare—Hospital Insurance; and Program No. 93.774, Medicare—Supplementary Medical Insurance Program)

Dated: December 29, 2011.
Jennifer M. Cannistra,
Executive Secretary to the Department, Department of Health, Human Services.

[FR Doc. 2011-33757 Filed 12-30-11; 4:15 pm]

BILLING CODE 4120-01-P